DEPARTMENT OF COMMERCE

International Trade Administration

[A-421-807]

Notice of Amended Final Determination of Sales at Less Than Fair Value; Certain Hot-Rolled Carbon Steel Flat Products From The Netherlands

AGENCY: Import Administration, International Trade Administration, Department of Commerce.

ACTION: Notice of amended final determination of sales at less than fair value.

EFFECTIVE DATE: November 2, 2001.

FOR FURTHER INFORMATION CONTACT: Melissa Blackledge, Mike Heaney, or Robert James, Antidumping and Countervailing Duty Enforcement Group III, Import Administration, International Trade Administration, U.S. Department of Commerce, 14th Street and Constitution Avenue, NW., Washington, DC 20230, at (202) 482-3518, (202) 482-4475, or (202) 482-0649, respectively.

Applicable Statute and Regulations

Unless otherwise indicated, all citations to the statute are references to the provisions effective January 1, 1995, the effective date of the amendments made to the Tariff Act of 1930 (the Tariff Act) by the Uruguay Round Agreements Act. In addition, unless otherwise indicated, all citations to the Department of Commerce's (the Department's) regulations refer to the regulations codified at 19 CFR part 351 (2000).

Amendment to the Final Determination

On September 21, 2001, the Department determined that certain hot-rolled carbon steel flat products (hot-rolled) from the Netherlands are being, or are likely to be, sold in the United States at less than fair value (LTFV), as provided in section 735(a) of the Tariff Act. See Notice of Final Determination of Sales at Less Than Fair Value: Certain Hot-Rolled Carbon Steel Flat Products From The Netherlands, 66 FR 50408 (October 3, 2001) (Final Determination). On October 3, 2001, respondent Corus Staal BV (Corus Staal) timely filed an allegation that the Department had made two ministerial errors in its final determination. Petitioners (United States Steel LLC, Bethlehem Steel Corporation, Gallatin Steel Company, IPSCO Steel, Inc., LTV Steel Company, Inc., National Steel Corporation, Nucor Corporation, and Steel Dynamics, Inc.) also timely alleged several ministerial errors on October 3, 2001. Both interested parties requested that we correct the errors and publish a notice of amended final determination in the Federal Register. See 19 CFR 351.224(e). In addition, on October 9, 2001, petitioners filed comments in rebuttal of one of Corus Staal's alleged errors.

Corus Staal's submission alleges the following errors:

• The Department inadvertently applied the revised inland freight expense for sales by Rafferty-Brown of North Carolina (RBN) to all U.S. sales; and

• The Department inadvertently treated all U.S. sales as export price (EP) sales when it intended to treat only sales of tolled subject merchandise as EP sales.

See Letter, Steptoe & Johnson LLP, October 3, 2001 passim.

In their rebuttal submission petitioners note that the treatment of all U.S. sales as EP sales by the Department was not a ministerial error, and that the Department intended to treat all U.S. sales as EP sales.

Petitioners' submission alleges the following errors:

• The Department double-counted early payment discounts for both Laura Metaal BV and Namascor BV;

• The Department double-counted a rebate for one customer which was reported incorrectly as a billing adjustment and correctly as a rebate;

• The Department inadvertently applied the revised warranty expense factor for sales made by RBN to all U.S. sales instead of only to RBN sales;

• The Department failed to correctly adjust the billing adjustments for certain U.S. sales on an invoice-specific basis, the Department applied an adjustment rate to all U.S. sales and not only to the sales in question, the Department then failed to recalculate credit for the invoices in question, and the Department applied the incorrect factor to adjust the respondent's billing adjustments;

• The Department attempted but failed to adjust further manufacturing costs for certain sales by Rafferty-Brown of Connecticut; and

• Finally, the Department inadvertently omitted changes in the margin calculation and model match programs which would have revised costs for one model, as intended by the Department and stated in its Memorandum from Heidi Norris to Neal Halper, Director of Office of Accounting, re: Cost of Production and Constructed Value Calculation Adjustments for the Final Determination (Sept. 19, 2001) at 1-2.

See Letter, Skadden, Arps, Slate, Meagher & Flom LLP, October 3, 2001 passim.

The Department's regulations define a ministerial error as one involving “addition, subtraction, or other arithmetic function, clerical error resulting from inaccurate copying, duplication or the like, and any other similar type of unintentional error which the Secretary considers ministerial.” 19 CFR 351.224(f).

After reviewing both parties' allegations and petitioners' rebuttal we have determined, in accordance with 19 CFR 351.224, that the Final Determination includes several ministerial errors. As to Corus Staal's allegations, we agree with Corus Staal that each of the points raised by Corus Staal constitutes a ministerial error. See Memorandum For Richard Weible; “Allegations of Ministerial Errors; Final Determination in the Investigation of Certain Hot-Rolled Carbon Steel Flat Products from the Netherlands' (Ministerial Errors Memorandum), dated October 23, 2001, a public version of which is on file in room B-099 of the main Commerce building, and the Final Determination, 66 FR at 50408.

Finally, we agree that, with the exception of one allegation, the errors alleged by petitioners represent ministerial errors and have been corrected for this amended final determination. The alleged ministerial error with which we do not agree is petitioners' belief that the Department's methodology for adjusting the respondent's billing adjustments constituted a ministerial error. For a detailed description of each of these allegations and, where applicable, our resultant corrections, see the Ministerial Errors Memorandum. Therefore, in accordance with 19 CFR 351.224(e), we are amending the final determination of the antidumping duty investigation of certain hot-rolled carbon steel flat products from the Netherlands. The revised weighted-average dumping margins are in the Amended Final Determination section, below.

Scope of the Investigation

For purposes of this investigation, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this investigation. Specifically included within the scope of this investigation are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such silicon and aluminum.

Steel products to be included in the scope of this investigation, regardless of definitions in the Harmonized Tariff Schedule of the United States (HTS), are products in which:(i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this investigation unless otherwise excluded. The following products, by way of example, are outside or specifically excluded from the scope of this investigation:

• Alloy hot-rolled steel products in which at least one of the chemical elements exceeds those listed above (including, e.g., ASTM specifications A543, A387, A514, A517, A506).

• Society of Automotive Engineers (SAE)/American Iron and Steel Institute (AISI) grades of series 2300 and higher.

• Ball bearings steels, as defined in the HTS.

• Tool steels, as defined in the HTS.

• Silico-manganese (as defined in the HTS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this investigation is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this investigation, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs purposes, the written description of the merchandise under investigation is dispositive.

Amended Final Determination

We are amending the final determination of the antidumping duty investigation of Certain Hot-Rolled Carbon Steel Flat Products from the Netherlands to reflect the correction of the above-cited ministerial errors. The revised final weighted-average dumping margins are as follows:

Manufacturer/exporter | Weighted-average margin (percent)
Corus Staal BV (Corus Staal) | 2.59
All Others | 2.59

Suspension of Liquidation

In accordance with section 735(c)(1)(B) of the Tariff Act, we are directing the United States Customs Service (Customs) to continue suspending liquidation on all imports of the subject merchandise from the Netherlands. Customs shall require a cash deposit or the posting of a bond equal to the weighted-average amount by which normal value exceeds the export price as indicated in the chart above. These suspension-of-liquidation instructions will remain in effect until further notice.

ITC Notification

In accordance with section 735(d) of the Tariff Act, we have notified the International Trade Commission of our amended final determination. This determination is issued and published in accordance with section 736(d) and 777(i)(1) of the Tariff Act of 1930, as amended.

Dated: October 24, 2001.
Richard W. Moreland,
Acting Assistant Secretary, for Import Administration.

[FR Doc. 01-27621 Filed 11-1-01; 8:45 am]

BILLING CODE 3510-DS-P